GENERAL SERVICES ADMINISTRATION

[Notice-Q-2023-06; Docket No. 2023-0002; Sequence No. 42]

Federal Secure Cloud Advisory Committee Notification of Upcoming Meeting

AGENCY: Federal Acquisition Service (Q), General Services Administration (GSA).

ACTION: Meeting notice.

SUMMARY: As stipulated by the Federal Advisory Committee Act (FACA), GSA is hereby giving notice of an open public meeting of the Federal Secure Cloud Advisory Committee (FSCAC). Information on attending and providing public comment is under the SUPPLEMENTARY INFORMATION section.

DATES: The open public meeting will be held on Thursday, January 18, 2024, from 1 p.m. to 3:30 p.m., Eastern Standard Time (EST). The agenda for the meeting will be made available prior to the meeting online at https://gsa.gov/fscac.

ADDRESSES: The meetings will be accessible via webcast. Registrants will receive the webcast information before the meeting.

FOR FURTHER INFORMATION CONTACT: Michelle White, Designated Federal Officer (DFO), FSCAC, GSA, 703-489-4160, fscac@gsa.gov. Additional information about the Committee, including meeting materials and agendas, will be available online at https://gsa.gov/fscac.

SUPPLEMENTARY INFORMATION:

Background

GSA, in compliance with the FedRAMP Authorization Act of 2022, established the FSCAC, a statutory advisory committee in accordance with the provisions of FACA (5 U.S.C. 10). The Federal Risk and Authorization Management Program (FedRAMP) within GSA is responsible for providing a standardized, reusable approach to security assessment and authorization for cloud computing products and services that process unclassified information used by agencies.

The FSCAC will provide advice and recommendations to the Administrator of GSA, the FedRAMP Board, and agencies on technical, financial, programmatic, and operational matters regarding the secure adoption of cloud computing products and services. The FSCAC will ensure effective and ongoing coordination of agency adoption, use, authorization, monitoring, acquisition, and security of cloud computing products and services to enable agency mission and administrative priorities. The purposes of the Committee are:

• To examine the operations of FedRAMP and determine ways that authorization processes can continuously be improved, including the following:

○ Measures to increase agency reuse of FedRAMP authorizations.

○ Proposed actions that can be adopted to reduce the burden, confusion, and cost associated with FedRAMP authorizations for cloud service providers.

○ Measures to increase the number of FedRAMP authorizations for cloud computing products and services offered by small businesses concerns (as defined by section 3(a) of the Small Business Act (15 U.S.C. 632(a)).

○ Proposed actions that can be adopted to reduce the burden and cost of FedRAMP authorizations for agencies.

• Collect information and feedback on agency compliance with, and implementation of, FedRAMP requirements.

• Serve as a forum that facilitates communication and collaboration among the FedRAMP stakeholder community.

The FSCAC will meet no fewer than three (3) times a calendar year. Meetings shall occur as frequently as needed, called, and approved by the DFO.

Purpose of the Meeting and Agenda

As a continuation of the FSCAC meeting series from October 19, 2023 through November 9, 2023, the January 18, 2024 public meeting will be dedicated to the Committee members reviewing their finalized feedback regarding their initial recommendations to the GSA Administrator and to vote on their deliverable to the GSA Administrator. The Committee will provide initial recommendations on their priority initiatives, to include authorization path improvements, continuous monitoring (ConMon) process improvements, and automation initiatives and opportunities. The meeting agenda and draft deliverable will be posted on https://gsa.gov/fscac prior to the January 18, 2024 meeting.

Meeting Attendance

This virtual meeting is open to the public. Meeting registration and information is available at https://gsa.gov/fscac. Registration for attending the virtual meeting is highly encouraged by 5:00 p.m. EST, on Tuesday, January 16, 2024. After registration, individuals will receive instructions on how to attend the meeting via email.

For information on services for individuals with disabilities, or to request accommodation for a disability, please email the FSCAC staff at FSCAC@gsa.gov at least 10 days prior to the meeting date. Live captioning may be provided virtually.

Public Comment

Members of the public will have the opportunity to provide oral public comment during the FSCAC meeting on January 18, 2024. Written public comments can be submitted at any time by completing the public comment form on our website, https://gsa.gov/fscac. All written public comments will be provided to FSCAC members in advance of the meeting if received by Wednesday, January 10, 2024.

Elizabeth Blake,
Senior Advisor, Federal Acquisition Service, General Services Administration.

[FR Doc. 2023-27537 Filed 12-14-23; 8:45 am]

BILLING CODE 6820-34-P